DEPARTMENT OF COMMERCE

International Trade Administration

[A-580-874]

Certain Steel Nails From the Republic of Korea: Preliminary Results of Antidumping Duty Administrative Review and Partial Rescission of Antidumping Duty Administrative Review; 2019-2020

AGENCY: Enforcement and Compliance, International Trade Administration, Department of Commerce.

SUMMARY: The Department of Commerce (Commerce) preliminarily determines that sales of certain steel nails (steel nails) from the Republic of Korea (Korea) have been made at less than normal value (NV) by Daejin Steel Company (Daejin) during the period of review (POR) July 1, 2019, through June 30, 2020. Interested parties are invited to comment on these preliminary results.

DATES: Applicable July 19, 2021.

FOR FURTHER INFORMATION CONTACT: Eva Kim, AD/CVD Operations, Office IV, Enforcement and Compliance, International Trade Administration, U.S. Department of Commerce, 1401 Constitution Avenue NW, Washington, DC 20230; telephone: (202) 482-8283.

SUPPLEMENTARY INFORMATION:

Background

On September 3, 2020, based on timely requests for review, in accordance with 19 CFR 351.221(c)(1)(i), Commerce initiated an administrative review of the antidumping duty (AD) order on steel nails from Korea with respect to 93 companies.¹ On March 2, 2021, Commerce extended the due date for issuing the preliminary results of this review by 33 days, until May 5, 2021.² On April 26, 2021, Commerce extended the due date for issuing the preliminary results of this review by an additional 30 days, until June 4, 2021.³ On May 26, 2021, Commerce extended the due date for issuing the preliminary results of this review by an additional 40 days, until July 14, 2021.⁴

¹ See Initiation of Antidumping and Countervailing Duty Administrative Reviews, 85 FR 54983 (September 3, 2020).

² See Memorandum, “Certain Steel Nails from the Republic of Korea: Extension of Deadline for Preliminary Results of Antidumping Duty Administrative Review,” dated March 2, 2021.

³ See Memorandum, “Extension of Deadline for Preliminary Results of Antidumping Duty Administrative Review,” dated April 26, 2021.

⁴ See Memorandum, “Extension of Deadline for Preliminary Results of Antidumping Duty Administrative Review,” dated May 26, 2021.

Partial Rescission of Administrative Review

In response to Commerce's notice of opportunity to request an administrative review on certain steel nails from Korea,⁵ on July 27 and July 31, 2020, Je-il Wire Production Co., Ltd. (Je-il) and Korea Wire Co., Ltd. (Kowire) timely requested an administrative review of the Order ⁶ with respect to their exports of subject merchandise to the United States during the POR, respectively.⁷ On July 31, 2020, Mid Continent Steel & Wire, Inc. (the petitioner) requested an administrative review of 93 producers and/or exporters, including Daeijn, Je-il, Koram Inc. (Koram) and Kowire.⁸

⁵ See Antidumping or Countervailing Duty Order, Finding, or Suspended Investigation; Opportunity to Request Administrative Review, 85 FR 39531 (July 1, 2020).

⁶ See Certain Steel Nails from the Republic of Korea, Malaysia, the Sultanate of Oman, Taiwan, and the Socialist Republic of Vietnam: Antidumping Duty Orders, 80 FR 39994 (July 13, 2015) (Order).

⁷ See Je-il's Letter, “Certain Steel Nails from the Republic of Korea: Request for Administrative Review for the Period July 1, 2019-June 30, 2020,” dated July 27, 2020; see also Kowire's Letter, “Steel Nails from the Republic of Korea—Request for Administrative Review,” dated July 31, 2020.

⁸ See Petitioners' Letter, “Certain Steel Nails from Republic of Korea—Request for Administrative Review,” dated July 31, 2020.

On September 18, 2020, Je-il withdrew its review request.⁹ On September 21, 2020, the petitioner withdrew its request for 91 of the 93 companies (which included Je-il and Kowire), maintaining its review request for Daejin and Koram.¹⁰ On September 21, 2020, the petitioner submitted comments requesting Commerce use the U.S. Customs and Border Protection (CBP) data to select Daejin, Koram, and Kowire as mandatory respondents.¹¹ On October 30, 2020, based on CBP data, we selected Daejin and Kowire as the mandatory respondents in this administrative review.¹² On November 4, 2020, Kowire withdrew its request of review of itself.¹³ Therefore, Commerce is rescinding this review, in part, with respect to 91 companies. For a complete description of the events that followed the initiation of this review, see the Preliminary Decision Memorandum.¹⁴

⁹ See the Je-il's Letter, “Certain Steel Nails from the Republic of Korea: Withdrawal of Request for Administrative Review for the Period July 1, 2019-June 30, 2020,” dated September 18, 2020.

¹⁰ See Petitioner's Letter, “Certain Steel Nails from the Republic of Korea—Withdrawal of Request for Administrative Review,” dated September 21, 2020.

¹¹ See Petitioner's Letter, “Certain Steel Nails from Republic of Korea—Comments on Respondent Selection,” dated September 21, 2020.

¹² See Memorandum, “2019-2020 Administrative Review of the Antidumping Duty Order on Certain Steel Nails from the Republic of Korea: Respondent Selection,” dated October 30, 2020.

¹³ See Kowire's Letter, “Steel Nails from the Republic of Korea—Withdrawal of Request for Administrative Review,” dated November 4, 2020.

¹⁴ See Memorandum, “Decision Memorandum for Preliminary Results of Antidumping Duty Administrative Review: Certain Steel Nails from the Republic of Korea; 2019-2020,” dated concurrently with, and hereby adopted by, this notice (Preliminary Decision Memorandum).

Scope of the Order ¹⁵

¹⁵ See Order.

The merchandise covered by this Order is steel nails having a nominal shaft length not exceeding 12 inches.¹⁶ Merchandise covered by the Order is currently classified under the Harmonized Tariff Schedule of the United States (HTSUS) subheadings 7317.00.55.02, 7317.00.55.03, 7317.00.55.05, 7317.00.55.07, 7317.00.55.08, 7317.00.55.11, 7317.00.55.18, 7317.00.55.19, 7317.00.55.20, 7317.00.55.30, 7317.00.55.40, 7317.00.55.50, 7317.00.55.60, 7317.00.55.70, 7317.00.55.80, 7317.00.55.90, 7317.00.65.30, 7317.00.65.60 and 7317.00.75.00. Nails subject to this Order also may be classified under HTSUS subheadings 7907.00.60.00, 8206.00.00.00 or other HTSUS subheadings. While the HTSUS subheadings are provided for convenience and customs purposes, the written description of the scope of this Order is dispositive. For a full description of the scope of the Order, see the Preliminary Decision Memorandum.

¹⁶ The shaft length of certain steel nails with flat heads or parallel shoulders under the head shall be measured from under the head or shoulder to the tip of the point. The shaft length of all other certain steel nails shall be measured overall.

Methodology

Commerce is conducting this review in accordance with section 751(a)(1)(B) of the Tariff Act of 1930, as amended (the Act). We calculated export price in accordance with section 772 of the Act. We calculated NV in accordance with section 773 of the Act. For a full description of the methodology underlying our conclusions, see the Preliminary Decision Memorandum.

A list of the topics discussed in the Preliminary Decision Memorandum is attached as an appendix to this notice. The Preliminary Decision Memorandum is a public document and is on file electronically via Enforcement and Compliance's Antidumping and Countervailing Duty Centralized Electronic Service System (ACCESS). ACCESS is available to registered users at http://access.trade.gov. In addition, a complete version of the Preliminary Decision Memorandum can be accessed directly at http://enforcement.trade.gov/frn/index.html.

Preliminary Results of the Review

As a result of this review, we preliminarily determine the following estimated weighted-average dumping margin exists for the POR:

Exporter/producer | Estimated weighted-average dumping margin (percent)
Daejin Steel Company | 3.22
Koram Inc | 3.22

Assessment Rates

Upon issuance of the final results, Commerce shall determine, and CBP shall assess, antidumping duties on all appropriate entries covered by this review. If the weighted-average dumping margin for the company listed above is not zero or de minimis (i.e., less than 0.5 percent), we will calculate importer-specific ad valorem AD assessment rates based on the ratio of the total amount of dumping calculated for the importer's examined sales to the total entered value of those same sales in accordance with 19 CFR 351.212(b)(1).¹⁷ We will instruct CBP to assess antidumping duties on all appropriate entries covered by this review when the importer-specific assessment rate calculated in the final results of this review is above de minimis (i.e., 0.5 percent). Where either the respondent's weighted-average dumping margin is zero or de minimis, or an importer-specific assessment rate is zero or de minimis, we will instruct CBP to liquidate the appropriate entries without regard to antidumping duties. The final results of this review shall be the basis for the assessment of antidumping duties on entries of merchandise covered by the final results of this review and for future deposits of estimated duties, where applicable.¹⁸

¹⁷ In the preliminary results, Commerce applied the assessment rate calculation method adopted in Antidumping Proceedings: Calculation of the Weighted-Average Dumping Margin and Assessment Rate in Certain Antidumping Proceedings; Final Modification, 77 FR 8101 (February 14, 2012).

¹⁸ See section 751(a)(2)(C) of the Act.

For the company (i.e., Koram) that was not selected for individual examination, we will instruct CBP to assess antidumping duties at an ad valorem rate equal to the company's weighted-average dumping margin determined in the final results of this review.

In accordance with Commerce's “automatic assessment” practice, for entries of subject merchandise during the POR produced by each respondent which did not know that its merchandise was destined for the United States, we will instruct CBP to liquidate entries not reviewed at the all-others rate established in the original less-than-fair value (LTFV) investigation (i.e., 11.80 percent) if there is no rate for the intermediate company(ies) involved in the transaction.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective for all shipments of steel nails from Korea entered, or withdrawn from warehouse, for consumption on or after the publication date of the final results of this administrative review, as provided by section 751(a)(2)(C) of the Act: (1) The cash deposit rate for the exporters listed above will be that established in the final results of this review, except if the rate is less than 0.50 percent and, therefore, de minimis within the meaning of 19 CFR 351.106(c)(1), in which case the cash deposit rate will be zero; (2) for previously reviewed or investigated companies not participating in this review, the cash deposit rate will continue to be the company-specific rate published for the most recently-completed segment of this proceeding in which the company was reviewed; (3) if the exporter is not a firm covered in this review, a prior review, or the less-than-fair value (LTFV) investigation, but the manufacturer is, then the cash deposit rate will be the rate established for the most recently completed segment of this proceeding for the manufacturer of subject merchandise; and (4) the cash deposit rate for all other manufacturers or exporters will continue to be 11.80 percent, the all-others rate established in the LTFV investigation.¹⁹ These cash deposit requirements, when imposed, shall remain in effect until further notice.

¹⁹ See Order.

Disclosure and Public Comment

Commerce intends to disclose to the parties to the proceeding the calculations performed in connection with these preliminary results to interested parties within five days of publication of this notice in accordance with 19 CFR 351.224(b).

Interested parties may submit case briefs to Commerce in response to these preliminary results no later than 30 days after the publication of this notice.²⁰ Rebuttal briefs, limited to issues raised in the case briefs, may be filed no later than seven days after the date for filing case briefs.²¹ Parties who submit case briefs or rebuttal briefs in this proceeding are encouraged to submit with each argument: (1) A statement of the issue; (2) a brief summary of the argument; and (3) a table of authorities.²² Case and rebuttal briefs should be filed using ACCESS and must be served on interested parties.²³ Note that Commerce has temporarily modified certain of its requirements for serving documents containing business proprietary information, until further notice.²⁴

²⁰ See 19 CFR 351.309(c)(1)(ii).

²¹ See 19 CFR 351.309(d)(1) and (2); see also Temporary Rule Modifying AD/CVD Service Requirements Due to COVID-19, 85 FR 17006 (March 26, 2020); Temporary Rule Modifying AD/CVD Service Requirements Due to COVID-19; Extension of Effective Period, 85 FR 41363 (July 10, 2020) (collectively, Temporary Rule).

²² See 19 CFR 351.309(c)(2) and (d)(2) and 19 CFR 351.303 (for general filing requirements).

²³ See generally 19 CFR 351.303.

²⁴ See Temporary Rule.

Pursuant to 19 CFR 351.310(c), interested parties who wish to request a hearing must submit a written request to the Acting Assistant Secretary for Enforcement and Compliance, filed electronically via ACCESS. Hearing requests should contain: (1) The party's name, address, and telephone number; (2) the number of participants; and (3) a list of issues to be discussed. Issues raised in the hearing will be limited to issues raised in the briefs. If a request for a hearing is made, Commerce intends to hold the hearing at a date and time to be determined.²⁵ Parties should confirm by telephone the date, time, and location of the hearing two days before the scheduled date.

²⁵ See 19 CFR 351.310(d).

An electronically-filed request for a hearing must be received successfully in its entirety by ACCESS by 5 p.m. Eastern Time within 30 days after the date of publication of this notice.²⁶ Commerce intends to issue the final results of this administrative review, including the results of our analysis of the issues raised in any written briefs, not later than 120 days after the date of publication of these preliminary results in the Federal Register, unless otherwise extended.²⁷

²⁶ See 19 CFR 351.310(c); see also 19 CFR 351.303(b)(1).

²⁷ See section 751(a)(3)(A) of the Act.

Notification to Importers

This notice also serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Notification to Interested Parties

This determination is issued and published in accordance with sections 733(f) and 777(i)(1) of the Act and 19 CFR 351.205(c).

Dated: July 12, 2021.
Christian Marsh,
Acting Assistant Secretary for Enforcement and Compliance.

Appendix I

List of Topics Discussed in the Preliminary Decision Memorandum

I. Summary

II. Background

III. Scope of the Order

IV. Rescission of Review, In Part

V. Discussion of the Methodology

VI. Recommendation

Appendix II

List of Companies for Which Commerce Is Rescinding This Review

Astrotech Steels Private Ltd.

Beijing Catic Industry Ltd.

Beijing Jinheung Co. Ltd. Inmax Industries Sdn. Bhd.

Bonuts Hardware Logistics

Bowon Fastener Co., Ltd.

Cheng Ch International Co., Ltd

China International Freight

China Staple Enterprise Co., Ltd

Crane Worldwide Logistics

De Well Group Korea Co., Ltd.

Dezhou Hualude Hardware Products Co., Ltd.

Dongwon Industries Co., Ltd.

Duo-Fast Co., Ltd

Duo-Fast Korea Co., Ltd.

Euro Line Global Co. Ltd.

Fastgrow International Co.

Geekay Wires Limited

Hanbit Logistics Co., Ltd.

Hanmi Staple Co., Ltd

Hebei Cangzhou New Century Foreign Trade Co., Ltd.

Hebei Jinsidun Trade Co. Ltd.

Hebei Minghao Import Export Co Li

Hebei Minmetals Co., Ltd.

Hengtuo Metal Products Co Ltd

Hongyi Hardware Products Co., Ltd.

Inmax Sdn. Bhd.

Jas Forwarding (Korea) Co. Ltd.

JCD Group Co., Limited

Jeil Tacker Co. Ltd.

Je-il Wire Production Co., Ltd.

Jinhai Hardware Co., Ltd.

Jinheung Steel Corporation

Jinsco International Corp.

Joo Sung Sea & Air Co., Ltd

Joosung B&P

Jung Fastener

Kabool Fasteners Co., Ltd.

Kintetsu World Express (Korea) Inc.

Korea Wire Co., Ltd.

Kousa Int. Logistics Co. Ltd.

KPF Co., Ltd.

Kuehne + Nagel Ltd.

Liang Chyuan Industrial Co., Ltd.

Maxpeed International Transport

Mingguang Ruifeng Hardware Products Co., Ltd.

MPROVE Co., Limited

Nailtech Co., Ltd.

OEC Freight (Korea) Co., Ltd.

OEC Worldwide Korea Co., Ltd.

Orient Express Container Co., Ltd

Paslode Fasteners (Shanghai) Co., Ltd.

Peace Industries, Ltd.

Promising Way (HongKong) Limited

Pro-Team Coil Nail Enterprise Inc.

Qingdao Cheshire Trading Co. Ltd.

Qingdao D&L Group Ltd.

Qingdao Hongyuan Nail Industry Co. Ltd.

Qingdao JCD Machinery Co., Ltd.

Qingdao Jisco Co., Ltd.

Qingdao Mst Industry and Commerce Co., Ltd.

Ramses Logistics Co., Ltd.

Schenker Korea Ltd.

Sejung Shipping Co., Ltd.

Shandong Oriental Cherry Hardware Group Co. Ltd.

Shandong Oriental Cherry Hardware Import & Export Co., Ltd.

Shandong Qingyun Hongyi Hardware Products Co., Ltd.

Shanghai Zoonlion Industrial Co., Ltd.

Shanxi Pioneer Hardware Industry Co., Ltd.

Shanxi Tianli Industries Co., Ltd.

Shipco Transport (Korea) Co., Ltd.

ST Fasteners

Suntec Industries Co., Ltd.

The Inno Steel

Tianjin Coways Metal Products Co.

Tianjin Hongli Qiangsheng Imp. & Exp

Tianjin Jinchi Metal Products Co., Ltd.

Tianjin Jinghai County Hongli

Tianjin Lituo Imp & Exp Co., Ltd

Tianjin Liweitian Metal Technology

Tianjin Xinhe International Trade Co. Ltd

Tianjin Zhonglian Metals Ware Co. Ltd.

Tianjin Zhonglian Times Technology

Unicorn (Tianjin) Fasteners Co., Ltd.

Woosung Shipping Co. Ltd.

Wulian Zhanpeng Metals Co., Ltd.

Xi'an Metals and Minerals Imp. Exp. Co., Ltd.

Xinjiayuan International Trade Co.

Young-Ko Trans Co., Ltd.

Youngwoo Fasteners Co., Ltd.

Zhaoqing Harvest Nails Co., Ltd.

Zon Mon Co Ltd.

[FR Doc. 2021-15265 Filed 7-16-21; 8:45 am]

BILLING CODE 3510-DS-P